DEPARTMENT OF COMMERCE

National Oceanic and Atmospheric Administration

50 CFR Part 660

[I.D. 102105A]

RIN 0648-AT11

Fisheries Off West Coast States and in the Western Pacific; Coastal Pelagic Species Fishery; Amendment 11

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 11 to the Coastal Pelagic Species Fishery Management Plan (FMP) for Secretarial review. Amendment 11 would change the framework for the annual apportionment of the Pacific sardine harvest guideline along the U.S. Pacific coast. The purpose of Amendment 11 is to achieve optimal utilization of the Pacific sardine resource and equitable allocation of the harvest opportunity for Pacific sardine.

DATES: Comments on Amendment 11 must be received on or before December 27, 2005.

ADDRESSES: You may submit comments on the NOA identified by I.D. 102105A by any of the following methods:

• E-mail: 0648-AT11.SWR@noaa.gov. Include I.D. 102105 in the subject line of the message.

• Federal e-Rulemaking portal: http://www.regulations.gov. Follow the instructions for submitting comments.

• Mail: Rodney R. McInnis, Regional Administrator, Southwest Region, NMFS, 501 West Ocean Boulevard, Suite 4200, Long Beach, CA 90802.

• Fax: (562)980-4047

Copies of Amendment 11, which includes an Environmental Assessment/Initial Regulatory Flexibility Analysis/Regulatory Impact Review, are available from Donald O. McIssac, Executive Director, Pacific Fishery Management Council, 7700 NE Ambassador Place, Suite 200, Portland, Oregon 97220-1384.

FOR FURTHER INFORMATION CONTACT: Joshua B. Lindsay, Sustainable Fisheries Division, NMFS, at 562-980-4034 or Mike Burner, Pacific Fishery Management Council, at 503-820-2280.

SUPPLEMENTARY INFORMATION: The Magnuson-Stevens Fishery Conservation and Management Act (Magnuson-Stevens Act) requires each Regional Fishery Management Council to submit any amendment to an FMP to NMFS for review and approval, disapproval, or partial approval. The Magnuson-Stevens Act also requires that NMFS, upon receiving an amendment to an FMP, immediately publish notification in the Federal Register that the amendment is available for public review and comment. NMFS will consider the public comments received during the comment period described above in determining whether to approve, disapprove, or partially approve Amendment 11.

Amendment 11 establishes an allocation framework that would help to achieve optimal utilization and equitable allocation between the different sectors of the Pacific sardine fishery. The Council tasked the CPS Advisory Subpanel (Subpanel) to develop an initial range of allocation alternatives for a longer-term allocation framework. The Subpanel adopted a range of alternatives for the allocation of Pacific sardine at their meetings in August and September 2004. At the November 2004 meeting the Council reviewed the range of alternatives, and with some modification and additions forwarded nine alternatives to the CPS Management Team (Team) for preliminary analysis. When adopting a range of alternatives for long-term allocation in April 2005, the Council expressed an interest in having the flexibility to revisit the proposed action in the near-term as the Pacific sardine resource and the fisheries and markets that rely on it are dynamic and difficult to predict.

At the April 2005 Council meeting the Council adopted seven of the nine alternatives and sent those to the Team for further analysis. Below is a summary of the seven forwarded alternatives given to the Team for analysis including both a no action alternative and a status quo alternative. If the Council chose to take no action, the allocation framework would revert to original FMP (64 FR 69888, December 15, 1999) formula that was in place before the regulatory amendment (69 FR 8572, February 25, 2003) was implemented in 2003. Under status quo the Council would have chosen to take action to extend the interim allocation. The order of alternatives does not indicate rank or priority. All alternatives (except No Action) used Point Arena, California (39° N. lat.) as the dividing line between the allocation subareas. In order to present the alternatives in a clear and comparable fashion the descriptions for the fishing season, the initial allocation, and reallocations made at different points during the fishing season are summarized in bullet form.

No Action: FMP Allocation Framework

The allocation subareas are divided at Point Piedras Blancas, California (35° 40′ N. lat.).

Season: January 1 - December 31

Initial allocation: On January 1, 33 percent of the harvest guideline is allocated to the Subarea A (north, which includes Monterey) and 66 percent to the Subarea B (Southern California).

Reallocation: On October 1, remaining unharvested portion of the harvest guideline is pooled and reallocated 50 percent to Subarea A (north) and 50 percent to Subarea B (south).

Status Quo: Interim Allocation Framework

Season: January 1 - December 31

Initial allocation: On January 1, 33 percent of the harvest guideline is allocated to the Subarea A (north) and 66 percent to Subarea B (south).

Reallocation: On September 1, 20 percent of the remaining unharvested portion of the harvest guideline is reallocated to the Subarea A (north) and 80 percent to Subarea B (south).

Second reallocation: On December 1, the remaining unharvested portion of the harvest guideline is reallocated coastwide.

Alternative 1: Coastwide Allocation In Two Periods

Season: January 1 - December 31

Initial allocation: On January 1, 50 percent of the harvest guideline is allocated coastwide.

Reallocation: On July 1, the remaining harvest guideline (50 percent plus any unharvested portion from the initial allocation) is allocated coastwide.

Alternative 2: Rejected by the Council

Alternative 3: Coastwide Allocation In Three Periods

Season: January 1 - December 31

Initial allocation: On January 1, 40 percent of the harvest guideline is allocated coastwide.

Reallocation: On July 1, 40 percent of the harvest guideline (plus any unharvested portion from the initial allocation) is allocated coastwide.

Second reallocation: On October 1, 20 percent of the harvest guideline (plus any unharvested portion from the first reallocation) is reallocated coastwide.

Alternative 4: Allocation Formula Depends on the Size of the Harvest Guideline

Season: January 1 - December 31

(a) The coastwide harvest guideline is greater than 100,000 mt:

Initial allocation: On January 1, 40 percent of the coastwide harvest guideline is allocated to the Subarea A (north) and 60 percent to the Subarea B (south).

Reallocation: On September 1, the remaining unharvested portion of the harvest guideline is pooled and allocated coastwide.

(b) The coastwide harvest guideline is less than 100,000 mt:

Initial allocation: On January 1, 33 percent of the coastwide harvest guideline is allocated to Subarea A (north) and 66 percent to the Subarea B (south).

Reallocation: On September 1, the remaining unharvested portion of the coastwide harvest guideline is pooled and 20 percent is allocated to Subarea A (north) and 80 percent to the Subarea B (south).

Second reallocation: On November 1, any remaining unharvested portion of the harvest guideline is again pooled and reallocated coastwide.

Alternative 5: Rejected by the Council

Alternative 6: Transfer of Unused Allocations Between Subareas

Season: January 1 - December 31

Initial allocation (for 2006 only): On January 1, 40 percent of the harvest guideline is allocated to the Subarea A (north) and 60 percent to the Subarea B (south).

Reallocation: On September 1, the remaining harvest guideline is pooled and allocated coastwide.

Transfer Rules For Computing Subsequent-Year Allocations

After the initial year (2006) these rules dictate the allocations to each subarea in each subsequent year:

Rule 1: The transfer of a portion of the harvest guideline from one subarea to the other, for the purpose of recomputing allocation percentages for the next year, occurs if the portion of a subarea's allocation remaining uncaught at the end of the year is greater than the transfer limits described in Rule 2.

Rule 2: If the harvest guideline is greater than 100,000 mt, the transfer amount will be equal to 10 percent of the coastwide harvest guideline for that year. When the coastwide harvest guideline is 100,000 mt or less, the transfer amount will be 5,000 mt.

Rule 3: The transfer amount is applied to the current-year allocation for each subarea. The resulting numerical values are then converted to percentages of the current-year coastwide harvest guideline and used to determine the initial allocation for the following year.

Rule 4: No subarea may initially be allocated more than 75 percent of the coastwide harvest guideline.

Rule 5: The September 1 coastwide reallocation always applies.

Alternative 7: Equal Reallocation

Season: January 1 December 31

Initial allocation: On January 1, 33 percent of the harvest guideline is allocated to the Subarea A (north) and 66 percent to the Subarea B (south).

Reallocation: On September 1, remaining harvest guideline is pooled and 50 percent of the harvest guideline is allocated to the Subarea A (north) and 50 percent to the Subarea B (south).

Second Reallocation: On November 1, any remaining unharvested portion of the harvest guideline is again pooled and reallocated coastwide.At the June 2005 Council meeting in Foster City, CA, the Council adopted a preferred option for the allocation of Pacific sardine that creates a seasonal, coastwide allocation scheme. This preferred alternative is a modified version of Alternative 3, which provides the following allocation formula for the non-tribal share of the harvest guideline: Coastwide Allocation In Three Periods

Season: January 1 - December 31

Initial allocation: On January 1, 35 percent of the harvest guideline is allocated coastwide.

Reallocation: On July 1, 40 percent of the harvest guideline (plus any unharvested portion from the initial allocation) is allocated coastwide.

Second reallocation: On September 15, 25 percent of the harvest guideline (plus any unharvested portion from the first reallocation) is reallocated coastwide.

The Council also recommended a review of the allocation formula in 2008.

Public comments on Amendment 11 must be received by December 27, 2005, to be considered by NMFS in the decision whether to approve, disapprove, or partially approve Amendment 11. A proposed rule to implement Amendment 11 has been submitted for Secretarial review and approval. NMFS expects to publish and request public comment on the proposed regulation to implement Amendment 11 in the near future.

Authority: 16 U.S.C. 1801 et seq.

Dated: October 24, 2005.
Ann M. Lange,
Acting Director, Office of Sustainable Fisheries, National Marine Fisheries Service.

[FR Doc. 05-21561 Filed 10-27-05; 8:45 am]

BILLING CODE 3510-22-S